DEPARTMENT OF HOMELAND SECURITY

Transportation Security Administration

Notice of Intent To Request Renewal From the Office of Management and Budget (OMB) of a Current Public Collection of Information; TSA Customer Comment Card

AGENCY: Transportation Security Administration (TSA), DHS.

ACTION: Notice.

SUMMARY: TSA invites public comment on currently approved information collection requirement abstracted below that will be submitted to OMB for renewal in compliance with the Paperwork Reduction Act.

DATES: Send your comments by May 9, 2005.

ADDRESSES: Comments may be mailed or delivered to Katrina Wawer, Information Collection Specialist, Office of Transportation Security Policy, TSA-9, Transportation Security Administration, 601 South 12th Street, Arlington, VA 22202-4220.

FOR FURTHER INFORMATION CONTACT: Ms. Wawer at the above address or by telephone (571) 227-1995 or facsimile (571) 227-2594.

SUPPLEMENTARY INFORMATION: In accordance with the Paperwork Reduction Act of 1995, (44 U.S.C. 3501 et seq.), an agency may not conduct or sponsor, and a person is not required to respond to a collection of information, unless it displays a valid OMB control number. Therefore, in preparation for submission to renew clearance of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including through the use of appropriate automated, electronic, mechanical, or other technological collection techniques or other forms of information technology.

1652-0030; TSA Customer Comment Card. This collection continues a voluntary program for airport passengers to provide feedback to the TSA regarding their experiences with TSA security procedures. This collection of information allows the TSA to determine customer concerns about security procedures and policies. TSA published a notice requesting emergency clearance from OMB (02/10/05; 70 FR 7115) and received emergency approval (OMB Control No. 1652-0030) for a three-month collection that expires on 5/31/05.

TSA will make available to airports a Customer Comment Card, which will collect feedback and, if the passenger desires, contact information so that TSA staff can respond to the passenger's comment. For passengers who deposit their cards in the designated drop-boxes, TSA airport staff will collect the cards, categorize comments, enter the results into an online system for reporting, and respond to passengers as necessary. Passengers also have the option to mail the cards directly to TSA. The TSA Contact Center will continue to be available for passengers to make comments independently of airport involvement. The TSA Contact Center is available by accessing the TSA Customer Service section of the “Travelers and Consumers” link on our Web site at http://www.tsa.gov/public/; by telephone toll-free at 1-866-289-9673; or by E-mailing us at TSA-ContactCenter@dhs.gov.

TSA estimates the number of respondents to be 1,783,800, with an estimated annual burden hours of 150,880 hours.

Issued in Arlington, Virginia, on March 3, 2005.
Lisa S. Dean,
Privacy Officer.

[FR Doc. 05-4402 Filed 3-7-05; 8:45 am]

BILLING CODE 4910-62-P